DEPARTMENT OF HEALTH AND HUMAN SERVICES

Centers for Disease Control and Prevention

[60Day-16-0841; Docket No. CDC-2015-0115]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the Management Information System for Comprehensive Cancer Control Programs data collection. CDC uses the electronic MIS to collect information about cancer prevention and control activities conducted by states, territories, and tribal organizations.

DATES: Written comments must be received on or before February 19, 2016.

ADDRESSES: You may submit comments, identified by Docket No. CDC-2015-0115 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Management Information System for Comprehensive Cancer Control Programs (OMB No. 0920-0841, exp. 3/31/2016)—Revision—National Center for Chronic Disease Prevention and Health Promotion (NCCDPHP), Centers for Disease Control and Prevention (CDC).

Background and Brief Description

From 2007-2012, the Centers for Disease Control and Prevention (CDC) provided funding to all 50 states, the District of Columbia, seven tribes/tribal organizations, and seven territories/U.S. Pacific Island Jurisdictions through the National Cancer Prevention and Control Program (CDC Funding Opportunity Announcement [FOA] DP07-703). New five-year cooperative agreements were established in June 2012 under FOA DP12-1205 (“Cancer Prevention and Control Program for State, Territorial and Tribal Organizations”). From 2012-2015, a subset of 13 awardees received additional funding for demonstration programs to advance cancer control using policy, systems, and environmental change strategies.

Since 2010, cancer prevention and control (CPC) awardees have used an electronic management information system (MIS) to submit semi-annual progress reports to CDC (“Management Information System for Comprehensive Cancer Control Programs,” OMB No. 0920-0841, exp. 3/31/2016). The progress reports satisfy federal reporting requirements and allow CDC to provide targeted technical assistance to awardees while monitoring their activities and progress. The MIS also provides CDC with the capacity to respond in a timely manner to requests for information from the Department of Health and Human Services (HHS), Congress, and other sources.

CDC plans to request a revision of the current MIS-based reporting system. Minor modifications will be made to standardize and streamline data entry; for example, the open-ended text boxes previously used to develop objectives will be replaced with a drop-down menu of evidence-based indicators. The modifications will also make MIS entries and output more user-friendly for CDC staff who use the MIS to monitor and evaluate specific program outcomes. The search function will also be modified to search for these indicators.

All 65 DP12-1205 cancer prevention and control awardees will continue to submit semi-annual reports to CDC through the end of the cooperative agreement period. These reports include information about personnel, resources, finances, planning, action plans, and progress. Information will be submitted by the program director for the state, territory, or tribal cancer control program. Awardees will be responsible for verifying their current information and entering new objectives and progress. To minimize respondent burden, information that has not changed does not need to be re-entered into the MIS. The estimated burden for ongoing system maintenance and semi-annual reporting is being reduced from three hours per response to two hours per response.

CDC anticipates that DP12-1205 will be succeeded in 2017 by a new FOA based on similar objectives and a comparable monitoring and evaluation plan. The burden table includes an annualized, one-time allocation of two hours response per response for initial population of the MIS with information that is specific to the new FOA. Due to annualization, this activity is represented in the table as 22 awardees instead of 65 awardees. CDC is considering a change in the frequency of progress reporting, effective with the new FOA. Routine progress reporting is likely to occur once per year instead of twice per year.

OMB approval will be requested for three years. The total estimated annualized burden for this reporting period will decrease due to a reduction in the estimated burden per response for semi-annual reporting; a reduction in the estimated burden per response for populating the MIS with information specific to the new FOA; and discontinuation of semi-annual reporting for demonstration program activities.

Awardees are required to submit the requested information to CDC as a condition of funding. CDC will use the information submitted by awardees to identify training and technical assistance needs, monitor compliance with cooperative agreement requirements, evaluate progress made in achieving program-specific goals, and obtain information needed to respond to Congressional and other inquiries regarding program activities and effectiveness. All information will be collected electronically. There are no costs to respondents other than their time.

Estimated Annualized Burden Hours
Type of respondents | Form name | Number of respondents | Number of responses per respondent | Avg. burden per response (in hrs.) | Total burden (in hrs.)
Program Director for State-, Tribal-, or Territorial-based Cancer Prevention and Control Program | Data Elements for All CPC Programs: Semi-annual Reporting | 65 | 2 | 2 | 260
| Data Elements for All CPC Programs: Initial MIS Population for New FOA | 22 | 1 | 2 | 44
Total |  |  |  |  | 304

Leroy A. Richardson,
Chief, Information Collection Review Office, Office of Scientific Integrity, Office of the Associate Director for Science, Office of the Director, Centers for Disease Control and Prevention.

[FR Doc. 2015-31961 Filed 12-18-15; 8:45 am]

BILLING CODE 4163-18-P